DEPARTMENT OF COMMERCE

International Trade Administration

Notice of Scope Rulings

AGENCY: Enforcement and Compliance, International Trade Administration, Department of Commerce.

DATES: Applicable July 29, 2019.

SUMMARY: The Department of Commerce (Commerce) hereby publishes a list of scope rulings and anticircumvention determinations made between Apri1 1, 2018, and June 30, 2018, inclusive. We intend to publish future lists after the close of the next calendar quarter.

FOR FURTHER INFORMATION CONTACT: Brenda E. Brown, AD/CVD Operations, Customs Liaison Unit, Enforcement and Compliance, International Trade Administration, U.S. Department of Commerce, 1401Constitution Avenue NW, Washington, DC 20230; telephone: 202-482-4735.

SUPPLEMENTARY INFORMATION:

Background

Commerce regulations provide that the Secretary will publish in the Federal Register a list of scope rulings on a quarterly basis.¹ Our most recent notification of scope rulings was published on July 16, 2019.² This current notice covers all scope rulings and anticircumvention determinations made by Enforcement and Compliance between April 1, 2018, and June 30, 2018, inclusive.

¹ See 19 CFR 351.225(o).

² See Notice of Scope Rulings, 84 FR 33915 (July 16, 2019).

Scope Rulings Made Between April 1, 2018 and June 30, 2018

Canada

A-122-857 and C-122-858: Softwood Lumber From Canada

Requestor: Produits Matra, Inc. (Matra); rectangular and profiled Primelock-branded trim boards with a width of 8, 10 or 12 inches that have been edge-glued are not covered by the scope of the antidumping and countervailing duty orders on softwood lumber from Canada because Commerce has determined that edge-glued lumber products constitute finished goods that are excluded from the orders. Rectangular and profiled Primelock-branded trim boards that are not edge-glued are covered by the scope of the antidumping and countervailing duty orders on softwood lumber from Canada.; June 14, 2018

Italy

A-475-832 and C-475-833; A-570-026 and C-570-027: Corrosion-Resistant Steel Products From Italy and the People's Republic of China

Requestor: Trendium Pool Products, Inc; Chinese and Italian CORE components of the pool kits and pool walls exported by Trendium to the United States are within the scope of the antidumping and countervailing duty orders, because they meet the measurement and compositional criteria; May 10, 2018.

Mexico

A-201-805: Certain Circular Welded Non-Alloy Steel Pipe From Mexico

Requestor: Maquilacero, S.A. de C.V.; the 176 types of non-galvanized tubing produced to ASTM A-513 specifications produced and imported by the requestor are not within the scope of the antidumping duty order on certain circular welded non-alloy steel pipe from Mexico because they are mechanical tubing; June 18, 2018.

People's Republic of China

C-570-057: Certain Tool Chests and Cabinets From the People's Republic of China

Requestor: Quality Craft Industries, Inc; certain tool chests and cabinets imported from the People's Republic of China (China) packaged in either wooden crates or corrugated boxes with packaging marking codes 5607CH, 5611TC, 4108CH, 4111TC, 3608CH, and 3606TC are within the scope of the antidumping duty order; May 21, 2018.

A-570-937 and C-570-938: Citric Acid and Certain Citrate Salts From the People's Republic of China

Requestor: Innua Petrochem, Ltd. (Innua); tributyl citrate (TBC) imported by Innua is not within the scope of the antidumping and countervailing duty orders because TBC does not meet the language of the scope; May 21, 2018.

A-570-900: Diamond Sawblades and Parts Thereof From the People's Republic of China

Requestor: Lyke Industrial Tool, LLC; finished diamond sawblades imported from China (regardless of the Rockwell hardness level of cores) are within the scope of the antidumping duty order; cupwheels with segments attached to the bottom of the cores are outside the scope of the antidumping duty order; May 17, 2018.

A-570-914 and C-570-915: Light-Walled Rectangular Pipe and Tube From the People's Republic of China

Requestor: Carlson AirFlo Merchandising Systems; certain finished components of refrigerated merchandising and display structures imported from China with part numbers R10447, P0228321, 250172, and 250355 are within the scope of the antidumping duty orders; May 29, 2018.

A-570-016 and C-570-017: Passenger Vehicle and Light Truck Tires From the People's Republic of China

Requestor: Maxxis; Certain radial spare tires by Cheng Shin Rubber USA, Inc., doing business as Maxxis International (Maxxis), are outside the scope of the antidumping and countervailing duty orders; May 1, 2018.

A-570-016 and C-570-017: Passenger Vehicle and Light Truck Tires From the People's Republic of China

Requestor: Yokohama Corporation of North America, Hangzhou Yokohama Tire Company, Ltd. and Yokohama Rubber Company, Ltd.; new pneumatic rubber tires of a size listed in the passenger vehicle section of the Tire and Rim Association Year Book, but which do not have a DOT symbol stamped on their sidewalls, are outside the scope of the antidumping and countervailing duty orders; May 18, 2018.

A-570-890: Wooden Bedroom Furniture From the People's Republic of China

Requestor: Bassett Mirror Company, Inc.; a chest is not covered by the antidumping duty order on wooden bedroom furniture from China because it has certain characteristics which distinguish it from bedroom chests; May 14, 2018.

A-570-890: Wooden Bedroom Furniture From the People's Republic of China

Requestor: Bassett Mirror Company, Inc.; two chests are not covered by the antidumping duty order on wooden bedroom furniture from China because they have certain characteristics which distinguish them from bedroom chests; June 29, 2018.

Anticircumvention Determinations Made Between April 1, 2018 and June 30, 2018

The People's Republic of China

A-570-029 and C-570-030: Certain Cold-Rolled Steel Flat Products From the People's Republic of China

Requestors: Steel Dynamics, Inc. (SDI), California Steel Industries (CSI), ArcelorMittal USA LLC (AMUSA), Nucor Corporation (Nucor), United States Steel Corporation, and AK Steel Corporation; Commerce determines that cold-rolled steel produced in the Socialist Republic of Vietnam (Vietnam) from hot-rolled steel substrate manufactured in China is circumventing the order on cold-rolled steel from China. Commerce determines that the cold-rolled steel produced in Vietnam from hot-rolled steel substrate manufactured in China falls within the orders covering cold-rolled steel from China; May 23, 2018.

A-570-026 and C-570-027: Certain Corrosion Resistant Steel Products From the People's Republic of China

Requestors: ArcelorMittal USA LLC, Nucor Corporation, United States Steel Corporation, and AK Steel Corporation, as well as Steel Dynamics, Inc. and California Steel Industries, (collectively, CORE Domestic Producers) following anti-circumvention inquiries, which were initiated in response to requests submitted by CORE Domestic Producers, Commerce determined that imports of certain corrosion-resistant steel products (CORE), produced in the Vietnam using carbon hot-rolled steel or cold-rolled steel flat products manufactured in China, are circumventing the antidumping duty and countervailing duty orders on CORE from China. (May 23, 2018).

Interested parties are invited to comment on the completeness of this list of completed scope inquiries. Any comments should be submitted to the Deputy Assistant Secretary for AD/CVD Operations, Enforcement and Compliance, International Trade Administration, 1401 Constitution Avenue NW, APO/Dockets Unit, Room 18022, Washington, DC 20230.

This notice is published in accordance with 19 CFR 351.225(o).

Dated: July 22, 2019.
James Maeder,
Deputy Assistant Secretary for Antidumping and Countervailing Duty Operations.

[FR Doc. 2019-16039 Filed 7-26-19; 8:45 am]

BILLING CODE 3510-DS-P